DEPARTMENT OF TRANSPORTATION

Federal Aviation Administration

14 CFR Part 97

[Docket No. 29996; Amdt. No. 1987]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the District of the Federal Register on December 31, 1980, and reapproved as of January 1, 1982.

ADDRESSES: Availability of matter incorporated by reference in the amendment is as follows:

For Examination

1. FAA Rules Docket, FAA Headquarters Building, 800 Independence Avenue, SW., Washington, DC 20591;

2. The FAA Regional Office of the region in which affected airport is located; or

3. The Flight Inspection Area Office which originated the SIAP.

For Purchase

Individual SIAP copies may be obtained from:

1. FAA Public Inquiry Center (APA-200), FAA Headquarters Building, 800 Independence Avenue, SW., Washington, DC 20591; or

2. The FAA Regional Office of the region in which the affected airport is located.

By Subscription

Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charters printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Polices and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Navigation (Air).

Issued in Washington, DC on April 14, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective Upon Publication

FDC date | State | City | Airport | FDC No. | SIAP
02/18/00 | OH | Wilmington | Airborne Airpark | 0/1635 | NDB Rwy 4L, Amdt 2C... Replaces TL-07
02/30/00 | CA | Concord | Buchanan Field | 0/3142 | VOR Rwy 19R Amdt 12A... This replaces FDC 0/1403 in TL 00-06
03/13/00 | CT | Windsor Locks | Bradley Intl | 0/2438 | ILS Rwy 6 Amdt 34 (CAT I, II, III)...
03/14/00 | MD | Hagerstown | Hagerstown Regional-Richard A. Henson Field | 0/2527 | ILS Rwy 27 Amdt 8...
03/18/00 | WY | Gillette | Gilette-Campbell Co | 0/2664 | LOC/DME BC Rwy 16, Amdt 3... Replaces TL-09
03/18/00 | WY | Gillette | Gillette-Campbell Co | 0/2665 | ILS Rwy 34, Amdt 2A... Replaces TL-09
03/18/00 | WY | Gillette | Gillette-Campbell Co | 0/2667 | VOR or GPS Rwy 17, AMDT 6A... Replaces TL-09
03/28/00 | AK | Anaktuvuk Pass | Anaktuvuk Pass | 0/3086 | NDB-B, Orig...
03/28/00 | IL | Morris | Morris Muni-James R. Washburn Field | 0/3089 | VOR or GPS-A, Amdt 9...
03/29/00 | CA | Colusa | Colusa County | 0/3130 | VOR or GPS-A Amdt 4B...
03/29/00 | CA | Visalia | Visalia Muni | 0/3097 | VOR Rwy 12 Amdt 5...
03/29/00 | CA | Visalia | Visalia Muni | 0/3098 | GPS Rwy 12 Orig...
03/29/00 | MA | Mansfield | Mansfield Muni | 0/3123 | NDB Rwy 32 Amdt 6A...
03/30/00 | CA | Oakland | Metropolitan Oakland Intl | 0/3165 | VOR or GPS Rwy 9R, Amdt 7...
03/31/00 | ND | Fargo | Hector Intl | 0/3201 | ILS Rwy 35, Amdt 32C...
03/31/00 | OH | Findlay | Findlay | 0/3196 | VOR or GPS Rwy 7, Amdt 11...
04/03/00 | AR | Rogers | Rogers Muni-Carter Field | 0/3231 | NDB or GPS Rwy 19, Orig-B...
04/03/00 | AR | Rogers | Rogers Muni-Carter Field | 0/3232 | ILS Rwy 19, Amdt 2B...
04/03/00 | FL | Orlando | Orlando Intl | 0/3243 | Radar-1, Amdt 5A...
04/03/00 | FL | Orlando | Orlando Intl | 0/3245 | ILS Rwy 18R, Amdt 5...
04/03/00 | FL | Orlando | Orlando Intl | 0/3246 | GPS Rwy 36L, Amdt 1...
04/03/00 | FL | Orlando | Orlando Intl | 0/3259 | VOR/DME or GPS Rwy 36R, Amdt 9...
04/03/00 | FL | Orlando | Orlando Intl | 0/3260 | VOR Rwy 18L, Amdt 3...
04/03/00 | FL | Orlando | Orlando Intl | 0/3263 | VOR/DME or GPS Rwy 18R Amdt 5...
04/03/00 | FL | Orlando | Orlando Intl | 0/3264 | VOR Rwy 18R Amdt 3...
04/03/00 | FL | Orlando | Orlando Intl | 0/3265 | VOR/DME or GPS Rwy 18L Amdt 5...
04/03/00 | FL | Orlando | Orlando Intl | 0/3266 | VOR/DME Rwy 36L Amdt 4A...
04/03/00 | MN | Duluth | Duluth Intl | 0/3258 | ILS Rwy 9, Amdt 19...
04/03/00 | PR | San Juan | Luis Munoz Marin Intl | 0/3272 | ILS Rwy 8, Amdt 15C...
04/03/00 | PR | San Juan | Luis Munoz Marin Intl | 0/3273 | HI-ILS/DME Rwy 8, Orig-A...
04/04/00 | CA | Chino | Chino | 0/3302 | ILS Rwy 26R Amdt 5...
04/04/00 | CA | San Diego | Montgomery Field | 0/3285 | NDB or GPS Rwy 28R Amdt 1A...
04/04/00 | FL | Orlando | Orlando Intl | 0/3292 | ILS Rwy 36R, Amdt 6 (Cat I, II, III)...
04/04/00 | MT | Colstrip | Colstrip | 0/3289 | GPS Rwy 6, Orig...
04/04/00 | MT | Colstrip | Colstrip | 0/3290 | GPS Rwy 24, Orig...
04/04/00 | RI | Westerly | Westerly State | 0/3286 | LOC Rwy 7 Amdt 5A...
04/05/00 | GUA | Agna | Guam Intl | 0/3339 | NDB/DME Rwy 24R Orig-A...
04/05/00 | HI | Kahului | Kahului | 0/3334 | VOR Rwy 20 Orig...
04/05/00 | HI | Kahului | Kahului | 0/3335 | NDB Rwy 20 Amdt 11...
04/05/00 | HI | Kahului | Kahului | 0/3337 | LOC/DME BC Rwy 20 Amdt 13...
04/05/00 | HI | Kahului | Kahului | 0/3338 | ILS Rwy 2 Amdt 23...
04/05/00 | HI | Kahului | Kahului | 0/3370 | NDB/DME or GPS Rwy 2 Amdt 2...
04/05/00 | HI | Lihue | Lihue | 0/3340 | VOR/DME or Tacan Rwy 21 Amdt 3...
04/05/00 | MP | Tinian Island | West Tinian | 0/3341 | NDB-A Amdt 1A...
04/05/00 | TN | Jackson | McKellar-Sipes Regional | 0/3330 | ILS Rwy 2, Amdt 7A...
04/06/00 | CA | Oakland | Metropolitan Oakland Intl | 0/3409 | ILS Rwy 11 Amdt 4...
04/06/00 | MN | Thief River Falls | Thief River Falls Regional | 0/3403 | ILS Rwy 31, Amdt 2A...
04/06/00 | TN | Dyersburg | Dyersburg Muni | 0/3394 | NDB Rwy 4 Orig...
04/06/00 | WI | Madison | Dane County Regional-Truax Field | 0/3406 | VOR or Tacan or GPS Rwy 31, Amdt 24B...
04/07/00 | CA | Ukia | Ukiah Muni | 0/3430 | LOC Rwy 15 Amdt 5...
04/07/00 | MN | Minneapolis | Minneapolis-St Paul Intl (Wold-Chamberlain) | 0/3437 | ILS PRM Rwy 30L, Amdt 3C...
04/07/00 | MN | Minneapolis | Minneapolis-St Paul Intl (Wold-Chamberlain) | 0/3438 | ILS PRM Rwy 30R, Amdt 5...
04/07/00 | MN | Minneapolis | Minneapolis-St Paul Intl (Wold-Chamberlain) | 0/3439 | ILS PRM Rwy 12R Amdt 2B...
04/07/00 | MN | Minneapolis | Minneapolis-St Paul Intl (Wold-Chamberlain) | 0/3440 | ILS PRM Rwy 12L, Amdt 3A...
04/11/00 | CA | Visalia | Visalia Muni | 0/3561 | NDB Rwy 30 Amdt 3A...
04/11/00 | CA | Visalia | Visalia Muni | 0/3562 | ILS Rwy 30 Amdt 5A...
04/11/00 | CA | Visalia | Visalia Muni | 0/3564 | GPS Rwy 30 Orig...
04/11/00 | MO | Kansas City | Kansas City Downtown | 0/3567 | ILS Rwy 19, Amdt 20D...
04/11/00 | ND | Fargo | Hector Intl | 0/3557 | ILS Rwy 17, Amdt 4B...
04/11/00 | VT | Burlington | Burlington Intl | 0/3510 | HI-ILS/DME Rwy 33 Amdt 1...
04/11/00 | VT | Burlington | Burlington Intl | 0/3512 | ILS/DME Rwy 33 Orig-B...
04/11/00 | VT | Burlington | Burlington Iltl | 0/3513 | NDB or GPS Rwy 15 Amdt 19B...
04/11/00 | VT | Burlington | Burlington Intl | 0/3514 | ILS Rwy 15 Amdt 21 C...
04/11/00 | VT | Burlington | Burlington Intl | 0/3515 | VOR or GPS Rwy 1 Amdt 11A...
12/03/99 | HI | Kailua-Kona | Keahole-Kona Intl at Keahole | 0/9515 | ILS DME Rwy 17 Amdt 9...

[FR Doc. 00-9832 Filed 4-18-00; 8:45 am]

BILLING CODE 4910-13-M